FEDERAL RESERVE SYSTEM

Agency Information Collection Activities: Announcement of Board Approval Under Delegated Authority and Submission to OMB

SUMMARY: Background

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Long--Division of Research and Statistics, Board of Governors of the Federal Reserve System, Washington, DC 20551 (202-452- 3829)

OMB Desk Officer--Mark Menchik--Office of Information and Regulatory Affairs, Office of Management and Budget, New Executive Office Building, Room 10235, Washington, DC 20503, or email to mmenchik@omb.eop.gov

Final approval under OMB delegated authority of the extension for three years, without revision, of the following report:

Report title: Reporting and Disclosure Requirements Associated with Regulation P

Agency form number: Reg P

OMB control number: 7100-0294

Frequency: Reporting, on-occasion; and disclosure, annually.

Reporters: State member banks, subsidiaries of state member banks, bank holding companies and their subsidiaries or affiliates, branches and agencies of foreign banks, commercial lending companies owned or controlled by foreign banks, corporations operating under section 25 or 25A of the Federal Reserve Act, and customers of these financial institutions.

Estimated annual number of institution respondents: Initial notice, 1,311; annual notice and change in terms, 6,692; opt-out notice, 1,197.

Estimated average time per response per institution: Initial notice, 80 hours; annual notice andchange in terms, 8 hours; opt-out notice, 8 hours.

Estimated subtotal annual burden hours for institutions: 167,992 hours.

Estimated annual number of consumer respondents: 402,675.

Estimated average time per consumer response: 30 minutes.

Estimated subtotal annual burden hours for consumers: 201,338 hours.

Estimated total annual burden hours: 369,330 hours.

General description of report: This information collection is mandatory (12 U.S.C. 248) and by section 504 of Gramm-Leach-Bliley Act (GLBA) (15 U.S.C § 6804). Since the Federal Reserve does not collect any information, no issue of confidentiality normally arises.

Abstract: The information collection pursuant to Regulation P is triggered by the establishment of a relationship between a customer and a financial institution. The regulation ensures that financial institutions provide customers notice of the privacy policies and practices of financial institutions and a means to prevent the disclosure of nonpublic personal information, in certain circumstances. Where applicable, financial institutions are required to provide an initial notice and an annual notice of their privacy policies and practices, opt-out notices, and revised notices containing changes in policies and procedures.

On July 3, 2006, the Federal Reserve published a notice in the Federal Register (71 FR 37935) requesting public comment for 60 days on the extension, without revision, of the reporting and disclosure requirements of Regulation P. The comment period for this notice expired on September 1, 2006. No comments were received.

Board of Governors of the Federal Reserve System, September 12, 2006.
Jennifer J. Johnson,
Secretary of the Board.

[FR Doc. E6-15408 Filed 9-15-06; 8:45 am]

BILLING CODE 6210-01-S